SMALL BUSINESS ADMINISTRATION

Small Business Size Standards: Waiver of the Nonmanufacturer Rule

AGENCY: U.S. Small Business Administration.

ACTION: Notice of intent to rescind the class waiver of the Nonmanufacturer Rule for NAICS Code 335999, All Other Miscellaneous Electrical Equipment and Component Manufacturing.

SUMMARY: The U. S. Small Business Administration (SBA) intends to rescind a class waiver of the Nonmanufacturer Rule for All Other Miscellaneous Electrical Equipment and Component Manufacturing, under the North American Industry Classification System (NAICS) code 335999. According to the request, there is at least one small business manufacturer of the various supplies listed under the All Other Miscellaneous Electrical Equipment and Component Manufacturing descriptor that has conducted business with the Federal Government within the previous 24 months. Additionally, SBA's independent research resulted in discovery of other small business manufacturers for the various items listed under the All Other Miscellaneous Electrical Equipment and Component Manufacturing descriptors.

DATES: Comments and source information must be submitted August 1, 2013.

ADDRESSES: You may directly submit comments and source information to regulations.gov at URL http://www.regulations.gov/#!home or Edward Halstead, Procurement Analyst, Small Business Administration, Office of Government Contracting, 409 3rd Street SW., Suite 8022, Washington, DC 20416.

FOR FURTHER INFORMATION CONTACT: Mr. Edward Halstead, Procurement Analyst, by telephone at (202) 205-6855 or by email at Edward.halstead@sba.gov.

SUPPLEMENTARY INFORMATION: Section 8(a)(17) of the Small Business Act (Act), 15 U.S.C. 637(a)(17), and SBA's implementing regulations require that recipients of Federal supply contracts set aside for small businesses, Service Disabled Veteran-Owned small businesses, Women-Owned Small Businesses, or Participants in SBA's 8(a) Business Development Program provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “product or class” for which there are no small business manufacturers or processors available to participate in the Federal market.

In order to be considered available to participate in the Federal market for a product or class of products, a small business manufacturer must have submitted a proposal for a contract solicitation or received a contract from the Federal Government within the last 24 months. 13 CFR121.1202(c). SBA defines “class of product or products” based on the specific item descriptions found in the Office of Management and Budget's North American Industry Classification System (NAICS) online manual. SBA may then identify a specific item or items within a NAICS code to which a class waiver would apply.

SBA is currently processing a request to rescind the Nonmanufacturer Rule for All Other Miscellaneous Electrical Equipment and Component Manufacturing, under North American Industry Classification System (NAICS) code 335999. The public is invited to comment or provide source information to SBA on the proposed waiver of the Nonmanufacturer Rule for the within 15 days after the date of posting in the Federal Register.

Dated: Ju1y 11, 2013.
Ajoy K. Sinah,
Deputy Director, Office of Government Contracting.

[FR Doc. 2013-17035 Filed 7-16-13; 8:45 am]

BILLING CODE 8025-01-P